DEPARTMENT OF HEALTH AND HUMAN SERVICES

National Institutes of Health

Submission for OMB Review; 30-Day Comment Request Loan Repayment Programs (Office of the Director)

AGENCY: National Institutes of Health, HHS.

ACTION: Notice

SUMMARY: In compliance with the Paperwork Reduction Act of 1995, the National Institutes of Health (NIH) has submitted to the Office of Management and Budget (OMB) a request to review and approve the information collection listed below.

DATES: Comments regarding this information collection are best assured of having their full effect if received within 30 days of the date of this publication.

ADDRESSES: Written comments and/or suggestions regarding the item(s) contained in this notice, especially regarding the estimated public burden and associated response time, should be directed to the: Office of Management and Budget, Office of Regulatory Affairs, OIRA_submission@omb.eop.gov or by fax to 202-395-6974, Attention: NIH Desk Officer.

FOR FURTHER INFORMATION CONTACT: To request more information on the proposed project or to obtain a copy of the data collection plans and instruments, contact: Steve Boehlert, Director of Operations, Division of Loan Repayment, National Institutes of Health, 6700B Rockledge Dr., Room 2300 (MSC 6904), Bethesda, Maryland 20892-6904 or email your request, including your address to BoehlerS@od.nih.gov or call (301) 451-4465. Formal requests for additional plans and instruments must be requested in writing.

SUPPLEMENTARY INFORMATION: This proposed information collection was previously published in the Federal Register on May 21, 2019, page numbers 23060-23061 (84 FR 23060) and allowed 60 days for public comment. No public comments were received. The purpose of this notice is to allow an additional 30 days for public comment. The Office of the Director (OD), National Institutes of Health (NIH) may not conduct or sponsor, and the respondent is not required to respond to, an information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection: Loan Repayment Programs (LRP), 0925-0361, expiration date 08/31/19, EXTENSION, Office of the Director (OD), National Institutes of Health.

Need and Use of Information Collection: The NIH makes available financial assistance, in the form of educational loan repayment, to M.D., Ph.D., Pharm.D., Psy.D., D.O., D.D.S., D.M.D., D.P.M., DC, N.D., O.D., D.V.M, or equivalent doctoral degree holders who perform biomedical or behavioral research in NIH intramural laboratories or as extramural grantees or scientists funded by domestic non-profit organizations for a minimum of two years (three years for the General Research subcategory) in research areas supporting the mission and priorities of the NIH. The information proposed for collection will be used by the DLR to determine an applicant's eligibility for the program.

OMB approval is requested for 3 years. There are no costs to respondents other than their time. The total estimated annualized burden hours are 27,481.

Estimated Annualized Burden Hours
Type of respondent | Number of respondents | Number of responses per respondent | Average time per response (in hours) | Total annual burden hours
Initial Extramural Applicants | 1,650 | 1 | 8 | 13,200
Renewal Extramural Applicants | 1,000 | 1 | 8 | 8,000
Initial Intramural Applicants | 40 | 1 | 8 | 320
Renewal Intramural Applicants | 40 | 1 | 8 | 320
Recommenders | 10,760 | 1 | 30/60 | 5,380
Institutional Contacts | 2,650 | 1 | 5/60 | 221
NIH LRP Coordinators | 80 | 1 | 30/60 | 40
Total | 16,220 | 16,220 |  | 27,481

Dated: July 24, 2019.
Lawrence A. Tabak,
Principal Deputy Director, National Institutes of Health.

[FR Doc. 2019-16288 Filed 7-30-19; 8:45 am]

BILLING CODE 4140-01-P